DEPARTMENT OF ENERGY

Federal Energy Regulatory Commission

[Project No. 15038-001]

Let It Go, LLC; Notice of Intent To Prepare an Environmental Assessment

On December 9, 2021, as supplemented,¹ Let It Go, LLC filed an application for an exemption from licensing for the proposed 20-kilowatt Jefferson Mill Hydroelectric Project (Jefferson Mill Project) (FERC No. 15038). The Jefferson Mill Project would be located on the Hardware River near the Town of Scottsville, Albemarle County, Virginia. The project would not occupy federal land.

¹ The final exemption application filed December 9, 2021 was supplemented on December 15, 2021, December 28, 2021, and March 9, 2022.

In accordance with the Commission's regulations, on July 21, 2022, Commission staff issued a notice that the project was ready for environmental analysis (REA notice). Based on the information in the record, including comments filed on the REA notice, staff does not anticipate that exempting the project from licensing would constitute a major federal action significantly affecting the quality of the human environment. Therefore, staff intends to prepare an Environmental Assessment (EA) on the application to exempt the Jefferson Mill Project from licensing.

The EA will be issued and circulated for review by all interested parties. All comments filed on the EA will be analyzed by staff and considered in the Commission's decision on whether to issue an exemption from licensing for the project.

The application will be processed according to the following schedule. Revisions to the schedule may be made as appropriate.

² The Council on Environmental Quality's (CEQ) regulations under 40 CFR 1501.10(b)(1) require that EAs be completed within 1 year of the federal action agency's decision to prepare an EA. This notice establishes the Commission's intent to prepare an EA for the Jefferson Mill Project. Therefore, in accordance with CEQ's regulations, the EA must be issued within 1 year of the issuance date of this notice.

Milestone | Target date
Commission issues EA | April 2023.²
Comments on EA | May 2023

Any questions regarding this notice may be directed to Andy Bernick at (202) 502-8660 or andrew.bernick@ferc.gov.

Dated: October 28, 2022.
Debbie-Anne A. Reese,
Deputy Secretary.

[FR Doc. 2022-23952 Filed 11-2-22; 8:45 am]

BILLING CODE 6717-01-P